DEPARTMENT OF COMMERCE

Foreign-Trade Zones Board

[S-93-2015]

Approval of Subzone Status; Toyota Motor Manufacturing Alabama, Inc.; Huntsville, Alabama

On June 19, 2015, the Acting Executive Secretary of the Foreign-Trade Zones (FTZ) Board docketed an application submitted by the Huntsville-Madison County Airport Authority, grantee of FTZ 83, requesting subzone status subject to the existing activation limit of FTZ 83 on behalf of Toyota Motor Manufacturing Alabama, Inc., in Huntsville, Alabama.

The application was processed in accordance with the FTZ Act and Regulations, including notice in the Federal Register inviting public comment (80 FR 36506, 06-25-2015). The FTZ staff examiner reviewed the application and determined that it meets the criteria for approval.

Pursuant to the authority delegated to the FTZ Board's Executive Secretary (15 CFR Sec. 400.36(f)), the application to establish Subzone 83E is approved, subject to the FTZ Act and the Board's regulations, including Section 400.13, and further subject to FTZ 83's 2,000-acre activation limit.

Dated: August 12, 2015.
Andrew McGilvray,
Executive Secretary.

[FR Doc. 2015-20386 Filed 8-17-15; 8:45 am]

BILLING CODE 3510-DS-P